DEPARTMENT OF COMMERCE

National Oceanic and Atmospheric Administration

50 CFR Part 660

[Docket No. 021209300-3048-02; I.D. 071103A]

Fisheries Off West Coast States and in the Western Pacific; Pacific Coast Groundfish Fishery; End of the Primary Season and Resumption of Trip Limits for the Shore-based Fishery for Pacific Whiting

AGENCY: National Marine Fisheries Service (NMFS), National Oceanic and Atmospheric Administration (NOAA), Commerce.

ACTION: Fishing restrictions; request for comments.

SUMMARY: NMFS announces the end of the 2003 primary season for the shore-based fishery for Pacific whiting (whiting) at 12 noon, local time (l.t.), July 14, 2003, because the allocation is projected to be reached. This action is intended to keep the harvest of whiting at the 2003 allocation levels.

DATES: Effective from 12 noon, l.t., July 14, 2003, until the effective date of the publication containing the 2004 specification and management measures for the Pacific Coast groundfish fishery, which will be published in the Federal Register, unless modified, superseded or rescinded. Comments will be accepted through August 4, 2003.

ADDRESSES: Submit comments to D. Robert Lohn, Administrator, Northwest Region (Regional Administrator), NMFS, 7600 Sand Point Way NE., Seattle, WA 98115-0070; or Rod Mcinnis, Acting Regional Administrator, Southwest Region, NMFS, 501 West Ocean Blvd., Suite 4200, Long Beach, CA 90802-4213.

FOR FURTHER INFORMATION CONTACT: Becky Renko at 206-526-6110.

SUPPLEMENTARY INFORMATION: This action is authorized by regulations implementing the Pacific Coast Groundfish Fishery Management Plan (FMP), which governs the groundfish fishery off Washington, Oregon, and California. On March 7, 2003 (68 FR 11182), the levels of allowable biological catch (ABC), the optimum yield (OY), and the commercial OY (the OY minus the tribal allocation) for U.S. harvests of whiting were announced in the Federal Register. For 2003, the whiting OY is 148,200 mt (mt) and the commercial OY is 121,200 mt. Regulations at 50 CFR 660.323(a)(4) divide the commercial OY into separate allocations for the catcher/processor, mothership, and shore-based sectors of the whiting fishery. On June 16, 2003, the whiting sector allocations which were originally published on March 7, 2003 (68 FR 11182), were corrected (68 FR 35575). The 2003 allocations are 41,208 mt (34 percent) for the catcher/processor sector; 29,088 mt (24 percent) for the mothership sector; and 50,904 mt (42 percent) for the shore-based sector. When each sector's allocation is reached, the primary season for that sector is ended.

The shore-based sector is composed of vessels that harvest whiting for delivery to land-based processors. The regulations at 50 CFR 660.323(a)(3)(i) describe the primary season for the shore-based sector as the period when the large-scale target fishery is conducted (when trip limits under § 660.323(b) are not in effect). Before and after the primary seasons, per-trip limits are in effect for whiting.

The best available information on July 11, 2003, indicated that 34,314 mt had been taken through July 5, 2003, and that the 50,904 mt shore-based allocation would be reached by 12 noon, l.t., July 14, 2002. This Federal Register action announces the date that the primary season for the shore-based sector ends and that per-trip limits are reinstated. A 10,000-lb (4,536-kg) trip limit will be in place after the primary season unless otherwise announced in the Federal Register. Per-trip limits are intended to accommodate small bait and fresh fish markets, and bycatch in other fisheries. To minimize incidental catch of chinook salmon by vessels fishing shoreward of the 100-fm (183-m) contour in the Eureka, CA area, at any time during a fishing trip, a limit of 10,000 lb (4,536 kg) of whiting is in effect year round, except when landings of whiting are prohibited.

NMFS Action

For the reasons stated above and in accordance with the regulations at 50 CFR 660.323(a)(4)(iii)(C), NMFS herein announces:

Effective 12 noon, l.t., July 14, 2003, no more than 10,000 lb (4,536 kg) of whiting may be taken and retained, possessed, or landed by a catcher vessel participating in the shore-based sector of the whiting fishery, unless otherwise announced in the Federal Register. If a vessel fishes shoreward of the 100-fm (183-m) contour in the Eureka, CA area (43° N. lat. - 40°30′ N. lat.) at any time during a fishing trip, the 10,000-lb (4,536-kg) trip limit applies, as announced in the annual management measures at paragraph IV, B(3)(c)(ii), except when the whiting fishery is closed.

Classification

This action is authorized by the regulations implementing the FMP. The determination to take this action is based on the most recent data available. The Assistant Administrator for fisheries, NMFS, finds good cause to waive the requirement to provide prior notice and opportunity for comment on this action pursuant to 5 U.S.C. 553(b)(B) because providing prior notice and opportunity would be impracticable. It would be impracticable because, if this closure were delayed in order to provide notice and comment, the fishery would be expected to greatly exceed the sector allocation. A delay to provide a cooling off period also would be expected to cause the fishery to exceed its allocation. Therefore, good cause also exists to waive the 30-day delay in effectiveness requirement of 5 U.S.C. 553(d)(3). The aggregate data upon which the determination is based are available for public inspection at the Office of the Regional Administrator (see ADDRESSES) during business hours. This action is taken under the authority of 50 CFR 660.323(a)(4)(iii)(C) and is exempt from review under E.O. 12866.

Authority: 16 U.S.C. 1801 et seq.

Dated: July 14, 2003.
Bruce C. Morehead,
Acting Director, Office of Sustainable Fisheries, National Marine Fisheries Service.

[FR Doc. 03-18164 Filed 7-14-03; 4:20 pm]

BILLING CODE 3510-22-S